NATIONAL SCIENCE FOUNDATION

Proposal Review Panel for Chemistry; Notice of Meeting

In accordance with the Federal Advisory Committee Act (Pub. L. 92-463, as amended), the National Science Foundation announces the following meeting:

Name: Centers for Chemical Innovation (CCI) 2012 Phase II Full Proposal Panel Review (1191).

Date and Time:

Monday, March 5, 2012 (8 a.m.-5:30 p.m.).

Tuesday, March 6, 2012 (8 a.m.-5 p.m.).

Wednesday, March 7, 2012 (8 a.m.-5 p.m.).

Thursday, March 8, 2012 (8 a.m.-5 p.m.).

Friday, March 9, 2012 (8 a.m.-12 p.m.).

Place: Arlington, Virginia.

Type of Meeting: Partially-Opened.

Contact Person for More Information: Katharine Covert, Program Director, Division of Chemistry, National Science Foundation, 4201 Wilson Blvd., Arlington, VA 703-292-4950.

Purpose of Meeting:

To review and evaluate four center proposals as part of the selection process for a Phase II award.

Agenda:

Monday, March 5, 2012

8 a.m.-9:15 a.m. Closed-Executive Session

9:15 a.m.-12:15 p.m. Open-CEOP Center & Poster Presentations

12:15 p.m. -1:30 p.m. Closed-Executive Session

1:30 p.m.-2:45 p.m. Open-Center Q&A

2:45 p.m.-5:30 p.m. Closed-Executive Session

Tuesday, March 6, 2012

8 a.m.-8:30 a.m. Closed-Executive Session

8:30 a.m.-11:30 p.m. Open-CENECI Center & Poster Presentations

11:30 p.m. -1 p.m. Closed-Executive Session

1 p.m.-2:15 p.m. Open-Center Q&A

2:15 p.m.-5 p.m. Closed-Executive Session

Wednesday, March 7, 2012

8 a.m.-8:30 a.m. Closed-Executive Session

8:30 a.m.-11:30 p.m. Open-CSCHF Center & Poster Presentations

11:30 p.m. -1 p.m. Closed-Executive Session

1 p.m.-2:15 p.m. Open-Center Q&A

2:15 p.m.-5 p.m. Closed-Executive Session

Thursday, March 8, 2012

8 a.m.-8:30 a.m. Closed-Executive Session

8:30 a.m.-11:30 p.m. Open-CMS Center & Poster Presentations

11:30 p.m. -1 p.m. Closed-Executive Session

1 p.m.-2:15 p.m. Open-Center Q&A

2:15 p.m.-5 p.m. Closed-Executive Session

Friday, March 9, 2012

8 a.m.-12 p.m. Closed

Reason for Closing: The meeting is partially closed to the public because the Panel will be reviewing proposal actions that will include privileged intellectual property and personal information that could harm individuals if they were disclosed. These matters are exempt under 5 U.S.C. 552b(c), (4) and (6) of the Government in the Sunshine Act.

Dated: February 16, 2012.
Susanne Bolton,
Committee Management Officer.

[FR Doc. 2012-4054 Filed 2-21-12; 8:45 am]

BILLING CODE 7555-01-P